DEPARTMENT OF VETERANS AFFAIRS

Notice of Availability of the Draft Programmatic Environmental Impact Statement (PEIS) for the West Los Angeles Medical Center Campus Draft Master Plan

AGENCY: Department of Veterans Affairs (VA).

ACTION: Notice of Availability.

SUMMARY: VA announces the availability of the draft PEIS for the VA West Los Angeles Medical Center Campus (WLA) draft Master Plan for public comment. The draft PEIS identifies, analyzes, and documents the potential environmental, cultural, socioeconomic, and cumulative impacts of the proposed improvements and alternatives for redevelopment as set forth in the WLA draft Master Plan.

DATES: Interested parties are invited to submit comments in writing on the WLA draft PEIS by January 29, 2019.

ADDRESSES: Written comments may be submitted through http://www.regulations.gov; by mail or hand delivery to the Director, Office of Regulation Policy and Management (00REG), Department of Veterans Affairs, 810 Vermont Avenue NW, Room 1063B, Washington DC 20420; or by fax to 202-273-9026. Comments should indicate that they are submitted in response to “Notice of Availability of the Draft Programmatic Environmental Impact Statement (PEIS) for the West Los Angeles Medical Center Campus Draft Master Plan”. During the comment period, comments may also be viewed online through the Federal Docket Management System at www.regulations.gov. The draft PEIS and other draft Master Plan documentation is available for viewing on the website www.losangeles.va.gov/masterplan/. Copies of the draft PEIS are also available at the following locations:

• Los Angeles City Hall, 200 N Spring Street, Los Angeles, CA 90012, (213) 473-3231.

• Donald Bruce Kaufman: Brentwood Branch Library, 11820 San Vicente Boulevard, Los Angeles, CA 90049, (310) 575-8273.

• West Los Angeles Regional Library, 11360 Santa Monica Boulevard, Los Angeles, CA 90025, (310) 575-8323.

• Westwood Branch Library, 1246 Glendon Avenue, Los Angeles, CA 90024, (310) 474-1739.

• VA GLAHS WLA Medical Center: 11301 Wilshire Boulevard, Los Angeles, CA 90073, Building 500/Room 6429K.

FOR FURTHER INFORMATION CONTACT: WLA draft PEIS team, VA Greater Los Angeles Healthcare System, at the address above, or by email to VHAGLAMasterPlan@va.gov.

SUPPLEMENTARY INFORMATION: The draft PEIS was developed pursuant to the National Environmental Policy Act (NEPA) of 1969, as amended (42 United States Code (U.S.C.) § 4321, et seq.), the Council on Environmental Quality's (CEQ) regulations for implementing the procedural provisions of NEPA (40 Code of Federal Regulations (CFR) Parts 1500-1508), and VA's NEPA regulations titled “Environmental Effects of the Department of Veterans Affairs Actions” (38 CFR part 26). The draft PEIS uses the substitution approach for integrating compliance with Section 106 of the National Historic Preservation Act into the NEPA process in accordance with § 36 CFR 800.8(c), and in keeping with the joint CEQ-Advisory Council on Historic Preservation guidance on how to use NEPA in lieu of the procedures set forth in § 36 CFR Part 800.

WLA is one of the largest medical center campuses in the VA system, providing a full range of medical services to eligible Veterans, including state-of-the-art hospital and outpatient care, rehabilitation, residential care, reintegration services, and long-term care. The draft Master Plan released on January 28, 2016, evaluates potential ways to reconfigure and redevelop the existing WLA Campus and provide additional housing to homeless Veterans to better serve the health care needs and distribution of Veterans in the GLAHS service area over the next 20 to 30 years. VA has prepared this draft PEIS to identify, analyze, and document the potential environmental, cultural, socioeconomic, and cumulative impacts of the proposed improvements and alternatives for redevelopment of the WLA Campus as set forth in the draft Master Plan. The proposed improvements and redevelopment constitute the proposed action.

The purpose of VA's proposed action is to revitalize the WLA Campus to provide a safe and vibrant Veteran-centric community where Veterans in the Greater Los Angeles area can access improved and expanded services. The proposed action is needed because the existing campus infrastructure is not sufficient to serve the current and future needs of the regional Veteran population, including health care, homeless housing, and supportive services. It would involve multiple concurrent and/or subsequent revitalization projects. The projects would provide modernized facilities that are compliant with applicable seismic, accessibility, and life safety requirements; facilitate access to care by consolidating services and functions; and respond to the housing and support needs of vulnerable Veterans populations, including Veterans who are homeless, aging, female, or have significant medical needs. Following a public scoping process from May 19, 2017, to June 30, 2017, VA refined its originally proposed alternatives to be analyzed in the PEIS to the following:

• Alternative A: Renovation of select existing buildings for same or new functions; up to 821 new units of supportive housing for homeless Veterans created.

• Alternative B: Demolition of select existing buildings and relocation of existing tenants and services to other remaining buildings; no new units of supportive housing for homeless Veterans created.

• Alternative C: Demolition and replacement of select existing buildings and additional construction of new buildings on open land; up to 1,622 new units of supportive housing for homeless Veterans created.

• Alternative D: Renovation or demolition/replacement of select existing buildings and additional construction of new buildings on open land; up to 1,622 new units of supportive housing for homeless Veterans created.

• Alternative E: No action or the “status quo” alternative.

Environmental topics that have been addressed in the draft PEIS include the following: Aesthetics; air quality; cultural resources including historic properties; geology and soils; hydrology and water quality; wildlife and habitat; noise and vibration; land use; floodplains, wetlands, and coastal zone; socioeconomics; community services; solid waste and hazardous materials; transportation and parking; utilities; and environmental justice. Cumulative impacts resulting from VA's proposed action and other concurrent projects, such as, but not limited to, LA Metro's Purple Line Extension Project, are also identified and analyzed. Relevant and reasonable mitigation measures that could alleviate environmental effects have been considered and are included where relevant within the draft PEIS.

Signing Authority

The Secretary of Veterans Affairs, or designee, approved this document and authorized the undersigned to sign and submit the document to the Office of the Federal Register for publication electronically as an official document of the Department of Veterans Affairs. Robert L. Wilkie, Secretary, Department of Veterans Affairs, approved this document on December 7, 2018, for publication.

Dated: December 7, 2018.
Luvenia Potts,
Program Specialist, Office of Regulation Policy & Management, Office of the Secretary, Department of Veterans Affairs.

[FR Doc. 2018-27126 Filed 12-13-18; 8:45 am]

BILLING CODE 8320-01-P